DEPARTMENT OF THE TREASURY

Submission for OMB Review; Comment Request

September 17, 2009.

The Department of Treasury will submit the following public information collection requirement(s) to OMB for review and clearance under the Paperwork Reduction Act of 1995, Public Law 104-13 on or after the date of publication of this notice. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before October 23, 2009 to be assured of consideration.

Internal Revenue Service (IRS)

OMB Number: 1545-0260.

Type of Review: Extension.

Form: 706-CE.

Title: Certificate of Payment of Foreign Death Tax.

Description: Form 706-CE is used by the executors of estates to certify that foreign death taxes have been paid so that the estate may claim the foreign death tax credit allowed by IRS section 2014. The information is used by IRS to verify that the proper tax credit has been claimed.

Respondents: Individuals and Households.

Estimated Total Burden Hours: 3,870 hours.

OMB Number: 1545-1535.

Type of Review: Extension.

Title: Revenue Procedure 97-19 Timely Mailing Treated as Timely Filing.

Description: Revenue Procedure 97-19 provides the criteria that will be used by the IRS to determine whether a private delivery service qualifies as a designated Private Delivery Service under section 7502 of the Internal Revenue Code.

Respondents: Businesses or other for-profits.

Estimated Total Burden Hours: 3,069 hours.

OMB Number: 1545-1539.

Type of Review: Extension.

Title: REG-208172-91 (Final) Basis Reduction Due to Discharge of Indebtedness.

Description: The IRS will use the information provided by taxpayers owning interests in partnerships and owning section 1221(i) real property to verify compliance with sections 1017(b)(3)(C), 1017(b)(3)(E), 1017(b)(3)(F), and 1017(b)(4)(X).

Respondents: Individuals or Households.

Estimated Total Burden Hours: 10,000 hours.

OMB Number: 1545-1674.

Type of Review: Extension.

Title: Revenue Procedure 2005-16 (Master and Prototype and Volume Submitter Plans) (previously Rev. Proc. 2000-20).

Description: The master and prototype and volume submitter revenue procedure sets forth the procedures for sponsors of master and prototype and volume submitter pension, profit-sharing and annuity plans to request an opinion letter or an advisory letter from the Internal Revenue Service that the form of a master or prototype plan or volume submitter plan meets the requirements of section 401(a) of the Internal Revenue Code. The information requested in sections 5.11, 8.02, 11.02, 12, 14.05 15.02, 18, and 24 of the master and prototype revenue procedure is in addition to the information required to be submitted with Forms 4461 (Application for * * *)

Respondents: Businesses or other for-profits.

Estimated Total Burden Hours: 1,058,850 hours.

OMB Number: 1545-1971.

Type of Review: Revision.

Form: Schedule H (Form 1040).

Title: Household Employment Taxes.

Description: Schedule H (Form 1040) is used by individuals to report their employment taxes. The data is used to verify that the items reported on the form is correct and also for general statistical use.

Respondents: Businesses or other for-profits.

Estimated Total Burden Hours: 734,373 hours.

OMB Number: 1545-1850.

Type of Review: Extension.

Title: REG-140930-02 (Final) Testimony or Production of Records in a Court or Other Proceeding (TD 9178).

Description: The existing regulation provides procedures for IRS officers and employees to follow upon receipt of a request or demand for disclosure of IRS records or information. This document contains proposed amendments to the existing regulation that establishes the procedures to be followed by IRS officers and employees upon receipt of a request or demand for disclosure of IRS records or information.

Respondents: Individuals or Households.

Estimated Total Burden Hours: 1,400 hours.

OMB Number: 1545-1972.

Type of Review: Extension.

Form: Schedule E (Form 1040).

Title: Supplemental Income and Loss.

Description: Schedule E (Form 1040) is used by individuals to report their supplemental income. The data is used to verify that the items reported on the form is correct and also for general statistical use.

Respondents: Businesses or other for-profits.

Estimated Total Burden Hours: 284,599 hours.

Clearance Officer: R. Joseph Durbala, (202) 622-3634, Internal Revenue Service, Room 6516, 1111 Constitution Avenue, NW., Washington, DC 20224.

OMB Reviewer: Shagufta Ahmed, (202) 395-7873, Office of Management and Budget, Room 10235, New Executive Office Building, Washington, DC 20503.

Celina Elphage,
Treasury PRA Clearance Officer.

[FR Doc. E9-22943 Filed 9-22-09; 8:45 am]

BILLING CODE 4830-01-P